DEPARTMENT OF COMMERCE

International Trade Administration

[C-274-807]

Melamine From Trinidad and Tobago: Preliminary Affirmative Countervailing Duty Determination and Alignment of Final Determination With Final Antidumping Determination

AGENCY: Enforcement and Compliance, International Trade Administration, Department of Commerce.

SUMMARY: The Department of Commerce (the Department) preliminarily determines that countervailable subsidies are being provided to a producer and exporter of melamine from Trinidad and Tobago. The period of investigation is January 1, 2013, through December 31, 2013. Interested parties are invited to comment on this preliminary determination.

DATES: Effective date April 20, 2015.

FOR FURTHER INFORMATION CONTACT: Kristen Johnson or Patricia Tran, Office III, AD/CVD Operations, Enforcement and Compliance, International Trade Administration, U.S. Department of Commerce, 14th Street and Constitution Avenue NW., Washington, DC 20230; telephone: (202) 482-4793 and (202) 482-1503, respectively.

Alignment of Final Countervailing Duty (CVD) Determination With Final Antidumping Duty (AD) Determination

On the same day that the Department initiated this CVD investigation, the Department also initiated a CVD investigation of melamine from the People's Republic of China (PRC) and AD investigations of melamine from the PRC and Trinidad and Tobago.¹ The AD and CVD investigations cover the same merchandise. On April 1, 2015, in accordance with section 705(a)(1) of the Tariff Act of 1930, as amended (the Act) and 19 CFR 351.210(b)(4)(i), Cornerstone Chemical Company (Petitioner) requested alignment of the final CVD determination with the final AD determination of melamine from Trinidad and Tobago.² Therefore, in accordance with section 705(a)(1) of the Act and 19 CFR 351.210(b)(4)(i), we are aligning the final CVD determination with the final AD determination. Consequently, the final CVD determination will be issued on the same date as the final AD determination, which is currently scheduled to be issued no later than August 24, 2015, unless postponed.

¹ See Melamine from the People's Republic of China and Trinidad and Tobago: Initiation of Countervailing Duty Investigations, 79 FR 73030 (December 9, 2014); and Melamine from the People's Republic of China and Trinidad and Tobago: Initiation of Less-Than-Fair-Value Investigations, 79 FR 73037 (December 9, 2014).

² See Letter from Petitioner regarding “Request for Alignment” (April 1, 2015).

Scope of the Investigation

The product covered by this investigation is melamine from Trinidad and Tobago. For a complete description of the scope of the investigation, see Appendix 1 to this notice.

Methodology

The Department is conducting this CVD investigation in accordance with section 701 of the Act. For a full description of the methodology underlying our preliminary conclusions, see the Preliminary Issues and Decision Memorandum.³ The Preliminary Issues and Decision Memorandum is a public document and is on file electronically via Enforcement and Compliance's Antidumping and Countervailing Duty Centralized Electronic Service System (ACCESS).⁴ ACCESS is available to registered users at http://access.trade.gov and is available to all parties in the Central Records Unit, Room 7046 of the main Department of Commerce building. In addition, a complete version of the Preliminary Issues and Decision Memorandum can be accessed directly on the internet at http://enforcement.trade.gov/frn/index.html. The signed Preliminary Issues and Decision Memorandum and the electronic version of the Preliminary Issues and Decision Memorandum are identical in content.

³ See Memorandum from Christian Marsh, Deputy Assistant Secretary for Antidumping and Countervailing Duty Operations, to Paul Piquado, Assistant Secretary for Enforcement and Compliance regarding “Decision Memorandum for the Preliminary Determination in the Countervailing Duty Investigation of Melamine from Trinidad and Tobago,” dated concurrently with this notice (Preliminary Issues and Decision Memorandum).

⁴ On November 24, 2014, Enforcement and Compliance changed the name of Enforcement and Compliance's AD and CVD Centralized Electronic Service System (IA ACCESS) to AD and CVD Centralized Electronic Service System (ACCESS). The Web site location was changed from http://iaaccess.trade.gov to http://access.trade.gov. The Final Rule changing the references to the regulations can be found at 79 FR 69046 (November 20, 2014).

Preliminary Determination and Suspension of Liquidation

In accordance with section 703(d)(1)(A)(i) of the Act, we calculated a subsidy rate for Methanol Holdings (Trinidad) Ltd. (MHTL), the only company subject to individual examination in this investigation. We preliminarily determine that MHTL's countervailable subsidy rate is 27.48 percent ad valorem. The All Others rate is 27.48 percent ad valorem, which is the rate calculated for MHTL.

In accordance with sections 703(d)(1)(B) and (d)(2) of the Act, we are directing U.S. Customs and Border Protection (CBP) to suspend liquidation of all entries of melamine from Trinidad and Tobago that are entered, or withdrawn from warehouse, for consumption on or after the date of the publication of this notice in the Federal Register, and to require a cash deposit for such entries of merchandise in the amounts indicated above.

Disclosure and Public Comment

The Department intends to disclose to interested parties the calculations performed in connection with this preliminary determination within five days of its public announcement.⁵ Interested parties may submit case and rebuttal briefs. For a schedule of the deadlines for filing case briefs, rebuttal briefs, and hearing requests, see the Preliminary Issues and Decision Memorandum.

⁵ See 19 CFR 351.224(b).

U.S. International Trade Commission (ITC) Notification

In accordance with section 703(f) of the Act, we will notify the ITC of our determination. In addition, we are making available to the ITC all non-privileged and non-proprietary information relating to this investigation. We will allow the ITC access to all privileged and business proprietary information in our files, provided the ITC confirms that it will not disclose such information, either publicly or under an administrative protective order, without the written consent of the Assistant Secretary for Enforcement and Compliance.

In accordance with section 705(b)(2) of the Act, if our final determination is affirmative, the ITC will make its final determination within 45 days after the Department makes its final determination.

This determination is issued and published pursuant to sections 703(f) and 777(i) of the Act.

Dated: April 13, 2015.
Paul Piquado,
Assistant Secretary for Enforcement and Compliance.

Appendix 1

Scope of the Investigation

The merchandise subject to this investigation is melamine (Chemical Abstracts Service (CAS) registry number 108-78-01, molecular formula C3H6N6).⁶ Melamine is a crystalline powder or granule typically (but not exclusively) used to manufacture melamine formaldehyde resins. All melamine is covered by the scope of this investigation irrespective of purity, particle size, or physical form. Melamine that has been blended with other products is included within this scope when such blends include constituent parts that have been intermingled, but that have not been chemically reacted with each other to produce a different product. For such blends, only the melamine component of the mixture is covered by the scope of this investigation. Melamine that is otherwise subject to this investigation is not excluded when commingled with melamine from sources not subject to this investigation. Only the subject component of such commingled products is covered by the scope of this investigation.

⁶ Melamine is also known as 2,4,6-triamino-s-triazine; l,3,5-Triazine-2,4,6-triamine; Cyanurotriamide; Cyanurotriamine; Cyanuramide; and by various brand names.

The subject merchandise is provided for in subheading 2933.61.0000 of the Harmonized Tariff Schedule of the United States (HTSUS). Although the HTSUS subheading and CAS registry number are provided for convenience and customs purposes, the written description of the scope is dispositive.

Appendix 2

List of Topics Discussed in the Preliminary Issues and Decision Memorandum

1. Summary

2. Background

3. Alignment

4. Scope Comments

5. Scope of the Investigation

6. Injury Test

7. Subsidies Valuation

8. Unequityworthiness and Uncreditworthiness

9. Analysis of Programs

10. ITC Notification

11. Disclosure and Public Comment

12. Verification

13. Conclusion

[FR Doc. 2015-09003 Filed 4-17-15; 8:45 am]

BILLING CODE 3510-DS-P